DEPARTMENT OF TRANSPORTATION

Federal Aviation Administration

14 CFR Part 39

[Docket No. FAA-2009-0790; Directorate Identifier 2008-NM-177-AD; Amendment 39-16285; AD 2010-10-06]

RIN 2120-AA64

Airworthiness Directives; Airbus Model A330-200 and -300 Airplanes and Model A340-200, -300, -500, and -600 Airplanes

AGENCY: Federal Aviation Administration (FAA), Department of Transportation (DOT).

ACTION: Final rule.

SUMMARY: We are superseding an existing airworthiness directive (AD) for the products listed above. This AD results from mandatory continuing airworthiness information (MCAI) originated by an aviation authority of another country to identify and correct an unsafe condition on an aviation product. The MCAI describes the unsafe condition as:

Uncontained APU [auxiliary power unit] generator failures on ground have occurred on Airbus A330 aircraft in service. APU generator design is common to all A330 and A340 aircraft.

Preliminary investigations confirmed that these failures have resulted in structural damage to the APU compartment and, in one case, to the stabiliser compartment. Loose APU generator parts can lead to damage to the APU firewall, reducing its fire extinguishing capability and potentially leading to a temporary uncontrolled fire.

Although the root cause has not yet been determined, the investigation showed a sequence of events where a collapse of the Drive End Bearing (DEB) leads to an uncontained failure. Evidence has also shown that the DEB failures are not instantaneous, and therefore, the detection of small debris could indicate early stage of a DEB failure.

* * * * *

We are issuing this AD to require actions to correct the unsafe condition on these products.

DATES: This AD becomes effective August 17, 2010.

The Director of the Federal Register approved the incorporation by reference of certain publications listed in this AD as of August 17, 2010.

On June 26, 2007 (72 FR 31973, June 11, 2007), the Director of the Federal Register approved the incorporation by reference of certain other publications listed in this AD.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on September 25, 2009 (74 FR 48872), and proposed to supersede AD 2007-18-04, Amendment 39-15184 (72 FR 50042, August 30, 2007). That NPRM proposed to correct an unsafe condition for the specified products. The MCAI states:

Uncontained APU [auxiliary power unit] generator failures on ground have occurred on Airbus A330 aircraft in service. APU generator design is common to all A330 and A340 aircraft.

Preliminary investigations confirmed that these failures have resulted in structural damage to the APU compartment and, in one case, to the stabiliser compartment. Loose APU generator parts can lead to damage to the APU firewall, reducing its fire extinguishing capability and potentially leading to a temporary uncontrolled fire.

Although the root cause has not yet been determined, the investigation showed a sequence of events where a collapse of the Drive End Bearing (DEB) leads to an uncontained failure. Evidence has also shown that the DEB failures are not instantaneous, and therefore, the detection of small debris could indicate early stage of a DEB failure.

To address this subject, EASA issued Emergency AD 2007-0188-E, requiring repetitive inspections of the APU generator Scavenge filter element and filter housing and of the APU generator Drain plug for signs of small debris coming from the APU generator, allowing detection of the early stage of APU generator failure. That AD was later revised to extend the compliance time and to provide another option for the repetitive inspection.

Subsequently, another uncontained APU generator failure occurred on ground on an A330 aircraft, operated within the provisions of MMEL [master minimum equipment list] item 36-11-01, with similar structural damages as the previous APU generator burst events. The investigation of this event revealed that the inspection required by paragraph 4 of AD 2007-0188R1 before the first flight under the MMEL rectification interval had not been performed and that the APU generator had not been properly installed (two seal plates instead of one).

Consequently, EASA issued AD 2008-0017, superseding AD 2007-0188R1 and requiring the following additional actions:

—a visual inspection of the APU generator seal plate fitting,

—an inspection following MMEL item 36-11-01 or 24-22-01 rectification and

—an inspection each time a new or serviceable APU generator or APU is installed on an aircraft.

EASA issued AD 2008-0017R1 to cancel the inspection of paragraph 4 for A330 aircraft, when operated within the provisions of MMEL item 36-11-01 further to ETOPS [Extended-Range Twin-Engine Operations Performance Standards] certification of A330 APU.

Finally, Airbus has developed a secondary housing for the APU generator that is designed to contain APU generator parts in the event of an APU generator burst.

For the above described reasons, this AD retains the requirements of EASA AD 2008-0017R1, which is superseded, and adds the requirement to install a secondary housing on the APU generator. After installation of the secondary APU generator housing on an aircraft, the repetitive inspections of this AD are no longer required for that aircraft.

This AD retains the requirements of AD 2007-18-04. The new requirements include inspecting the APU generator scavenge oil filter element for contamination, the APU generator drain plug for contamination, and the APU generator scavenge filter housing for contamination, and a terminating action (installing a secondary housing line replaceable unit). Applicable corrective actions include, depending on the findings, replacing or reinstalling the APU generator scavenge oil filter and packing, replacing or reinstalling the APU generator drain plug, and replacing or reinstalling the APU generator scavenge filter housing. You may obtain further information by examining the MCAI in the AD docket.

Relevant Service Information

The NPRM cited Airbus Service Bulletins A330-24-3045, dated June 13, 2008; A340-24-4058, dated June 13, 2008; and A340-24-5022, dated June 23, 2008. Airbus has released the following new service bulletins:

Table—New Service Information
Airbus— | Revision— | Dated—
Mandatory Service Bulletin A330-24-3045 | 01 | October 1, 2008.
Mandatory Service Bulletin A340-24-4058 | 01 | October 1, 2008.
Mandatory Service Bulletin A340-24-5022 | 01 | November 27, 2008.

The latest revisions of the service information make minor updates and specify that no additional work is necessary on airplanes modified in accordance with the original documents. We have revised this final rule to incorporate the latest revisions of the service information. We have also added paragraph (h)(6) and Table 5 to this AD to give credit for actions done in accordance with the original service information. We have reidentified subsequent tables accordingly.

Comments

We gave the public the opportunity to participate in developing this AD. We considered the comment received.

Request To Include a Terminating Modification for Actions Required by Paragraphs (h)(3) and (h)(4) of the NPRM

EVA Airways Corporation (EVA) requests that we revise the NPRM to include a terminating modification for actions required by paragraphs (h)(3) and (h)(4) of the NPRM. Accomplishing the actions specified in paragraph (h)(5) of the NPRM would terminate the actions required by paragraphs (g)(2), (g)(3), and (h)(2) of the NPRM. EVA refers to a message it received from Airbus and states that installing the APU generator secondary housing terminates the repetitive inspections specified in paragraphs (g)(2), (g)(3), (h)(2), (h)(3), and (h)(4) of the NPRM.

We agree with the commenter's request. The EASA AD specifies that installing the secondary housing line replacement unit terminates repetitive inspections. We have also received information from Airbus indicating that installing the APU generator secondary housing terminates the repetitive inspections required by paragraphs (h)(3) and (h)(4) of the NPRM. We have revised paragraph (h)(5) of this final rule to specify that installing the APU generator secondary housing terminates the repetitive inspections specified in paragraphs (g)(2) and (g)(3) of this AD and the inspections specified in paragraphs (h)(2), (h)(3), and (h)(4) of this AD. We have also revised paragraphs (g)(2) and (g)(3) of this final rule to clarify that doing the installation required by paragraph (h)(5) of this AD terminates the repetitive inspections. We have also revised paragraphs (h)(2), (h)(3), and (h)(4) of this AD to clarify that doing the installation terminates the inspection requirements of those paragraphs.

Explanation of Changes Made to This AD

In paragraphs (g)(1), (g)(2), and (g)(3) of this AD, we have clarified that the service information specified in Table 2 or Table 3 of this AD is acceptable for compliance with the applicable actions.

Conclusion

We reviewed the relevant data, considered the comment received, and determined that air safety and the public interest require adopting the AD with the changes described previously. We also determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Explanation of Change to Costs of Compliance

Since issuance of the NPRM, we have increased the labor rate used in the Costs of Compliance from $80 per work-hour to $85 per work-hour. The Costs of Compliance information, below, reflects this increase in the specified hourly labor rate.

Costs of Compliance

We estimate that this AD will affect about 41 products of U.S. registry.

The actions that are required by AD 2007-18-04 and retained in this AD take about 11 work-hours per product, at an average labor rate of $85 per work hour. Required parts cost $0 per product. Based on these figures, the estimated cost of the currently required actions is $935 per product.

We estimate that it will take about 10 work-hours per product to comply with the new basic requirements of this AD. The average labor rate is $85 per work-hour. Required parts will cost about $0 per product. Where the service information lists required parts costs that are covered under warranty, we have assumed that there will be no charge for these costs. As we do not control warranty coverage for affected parties, some parties may incur costs higher than estimated here. Based on these figures, we estimate the cost of this AD to the U.S. operators to be $34,850, or $850 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15184 (72 FR 50042, August 30, 2007) and adding the following new AD:

2010-10-06 Airbus: Amendment 39-16285. Docket No. FAA-2009-0790; Directorate Identifier 2008-NM-177-AD.

Effective Date

(a) This airworthiness directive (AD) becomes effective August 17, 2010.

Affected ADs

(b) This AD supersedes AD 2007-18-04, Amendment 39-15184.

Applicability

(c) This AD applies to the airplanes certificated in any category, identified in paragraphs (c)(1) and (c)(2) of this AD.

(1) Airbus Model A330-201, -202, -203, -223, -243, -301, -302, -303, -321, -322, -323, -341, -342, and -343 series airplanes, all serial numbers, except those on which Airbus modification 56985 has been embodied in production.

(2) Airbus Model A340-211, -212, -213, -311, -312, and -313 series airplanes; and Model A340-541 and A340-642 airplanes; all serial numbers, except those on which Airbus modification 56985 has been embodied in production.

Subject

(d) Air Transport Association (ATA) of America Code 24: Electrical power.

Reason

(e) The mandatory continuing airworthiness information (MCAI) states:

Uncontained APU [auxiliary power unit] generator failures on ground have occurred on Airbus A330 aircraft in service. APU generator design is common to all A330 and A340 aircraft.

Preliminary investigations confirmed that these failures have resulted in structural damage to the APU compartment and, in one case, to the stabiliser compartment. Loose APU generator parts can lead to damage to the APU firewall, reducing its fire extinguishing capability and potentially leading to a temporary uncontrolled fire.

Although the root cause has not yet been determined, the investigation showed a sequence of events where a collapse of the Drive End Bearing (DEB) leads to an uncontained failure. Evidence has also shown that the DEB failures are not instantaneous, and therefore, the detection of small debris could indicate early stage of a DEB failure.

To address this subject, EASA issued Emergency AD 2007-0188-E, requiring repetitive inspections of the APU generator Scavenge filter element and filter housing and of the APU generator Drain plug for signs of small debris coming from the APU generator, allowing detection of the early stage of APU generator failure. That AD was later revised to extend the compliance time and to provide another option for the repetitive inspection.

Subsequently, another uncontained APU generator failure occurred on ground on an A330 aircraft, operated within the provisions of MMEL [master minimum equipment list] item 36-11-01, with similar structural damages as the previous APU generator burst events. The investigation of this event revealed that the inspection required by paragraph 4 of AD 2007-0188R1 before the first flight under the MMEL rectification interval had not been performed and that the APU generator had not been properly installed (two seal plates instead of one).

Consequently, EASA issued AD 2008-0017, superseding AD 2007-0188R1 and requiring the following additional actions:

—a visual inspection of the APU generator seal plate fitting,

—an inspection following MMEL item 36-11-01 or 24-22-01 rectification and

—an inspection each time a new or serviceable APU generator or APU is installed on an aircraft.

EASA issued AD 2008-0017R1 to cancel the inspection of paragraph 4 for A330 aircraft, when operated within the provisions of MMEL item 36-11-01 further to ETOPS [Extended-Range Twin-Engine Operations Performance Standards] certification of A330 APU.

Finally, Airbus has developed a secondary housing for the APU generator that is designed to contain APU generator parts in the event of an APU generator burst.

For the above described reasons, this AD retains the requirements of EASA AD 2008-0017R1, which is superseded, and adds the requirement to install a secondary housing on the APU generator. After installation of the secondary APU generator housing on an aircraft, the repetitive inspections of this AD are no longer required for that aircraft.

This AD retains the requirements of AD 2007-18-04, which superseded AD 2007-12-10, Amendment 39-15088. The new requirements include inspecting the APU generator scavenge oil filter element for contamination, the APU generator drain plug for contamination, and the APU generator scavenge filter housing for contamination, and a terminating action (installing a secondary housing line replaceable unit). Applicable corrective actions include, depending on the findings, replacing or reinstalling the APU generator scavenge oil filter and packing, replacing or reinstalling the APU generator drain plug, and replacing or reinstalling the APU generator scavenge filter housing.

RESTATEMENT OF REQUIREMENTS OF AD 2007-12-10, WITH NO CHANGES

Actions and Compliance

(f) Unless already done, do the following actions.

(1) For airplanes on which the date of issuance of the original French airworthiness certificate or the date of issuance of the original French or EASA export certificate of airworthiness is before March 1, 2007: Within 63 days after June 26, 2007 (the effective date of AD 2007-12-10), in accordance with the instructions of Airbus All Operators Telex (AOT) A330-24A3042, A340-24A4056, or A340-24A5020, all Revision 02, all dated April 12, 2007; as applicable, inspect the inlet screen (last chance filter) for the generator scavenge-oil pump for signs of debris and, as applicable, apply all associated corrective actions before further flight.

(2) For Model A330 aircraft operating under MMEL (master minimum equipment list) Item 24-22-01 `AC Main Generation' or MMEL Item 36-11-01 `Bleed Air Supply System Failure' and on which the date of issuance of the original French airworthiness certificate or the date of issuance of the original French or EASA export certificate of airworthiness is before March 1, 2007: As of June 26, 2007, before each flight, perform a check of the differential pressure indicator button on the lube filter and the generator scavenge filter in accordance with the instructions of Airbus AOT A330-24A3042, Revision 02, dated April 12, 2007, until accomplishment of paragraph (g)(5) of this AD.

Note 1: The repetitive checks before each flight specified in paragraph (f)(2) of this AD are not required for airplanes operated under MMEL Item 36-11-01, provided the APU generator has been removed or deactivated in accordance with the instructions of Airbus AOT A330-24A3042, Revision 02, dated April 12, 2007.

(3) Actions done before June 26, 2007, in accordance with the applicable Airbus service information in Table 1 of this AD are acceptable for compliance with the corresponding provisions of paragraph (f) of this AD.

Table 1—Acceptable Earlier Revisions of Service Information
Airbus all operators telex— | Revision— | Dated—
A330-24A3042 | Original | March 22, 2007.
A330-24A3042 | 01 | March 29, 2007.
A340-24A4056 | Original | March 22, 2007.
A340-24A4056 | 01 | March 29, 2007.
A340-24A5020 | Original | March 22, 2007.
A340-24A5020 | 01 | March 29, 2007.

RESTATEMENT OF REQUIREMENTS OF AD 2007-18-04, WITH REVISED SERVICE INFORMATION

Actions and Compliance

(g) Unless already done, do the following actions.

(1) For airplanes on which the date of issuance of the original French airworthiness certificate or the date of issuance of the original French or EASA export certificate of airworthiness is on or before July 1, 2007: Within 30 days after September 14, 2007 (the effective date of AD 2007-18-04), in accordance with the instructions of paragraph 4.2.1 of the applicable Airbus service information specified in Table 2 or 3 of this AD, clean and inspect the APU generator scavenge oil filter element and housing and inspect the APU generator drain plug to detect metallic debris, and apply all applicable associated corrective actions before further flight. After the effective date of this AD, use only the service information specified in Table 3 of this AD.

Table 2—Service Information
Airbus all operators telex— | Revision— | Dated—
A330-24A3044 | 01 | July 20, 2007.
A330-24A3044 | 02 | December 20, 2007.
A340-24A4057 | 02 | August 14, 2007.
A340-24A5021 | 01 | July 20, 2007.

Table 3—New Service Information
Airbus all operators telex— | Revision— | Dated—
A330-24A3044 | 03 | May 26, 2008.
A340-24A4057 | 03 | December 20, 2007.
A340-24A5021 | 02 | December 20, 2007.

(2) Within 450 aircraft flight hours or 200 APU operating hours, whichever occurs later, after accomplishing the inspection required by paragraph (g)(1) of this AD, in accordance with the instructions of paragraph 4.2.2 of the applicable Airbus information specified in Table 2 or Table 3 of this AD: Inspect the APU generator scavenge oil filter element and housing and the APU generator drain plug to detect metallic debris; and apply all applicable associated corrective actions before further flight. Repeat the inspections thereafter at intervals not to exceed 450 aircraft flight hours or 200 APU operating hours, whichever occurs later until the installation required by paragraph (h)(5) of this AD is done. After the effective date of this AD, use only the service information specified in Table 3 of this AD.

(3) For airplanes on which the date of issuance of the original French airworthiness certificate or the date of issuance of the original French or EASA export certificate of airworthiness is after July 1, 2007: Within 450 aircraft flight hours or 200 APU operating hours after September 14, 2007, whichever occurs later, in accordance with the instructions of paragraph 4.2.2 of the applicable Airbus service information specified in Table 2 or Table 3 of this AD: Inspect the APU generator scavenge oil filter element and housing and the APU generator drain plug to detect metallic debris; and apply all applicable associated corrective actions before further flight. Repeat the inspections thereafter at intervals not to exceed 450 aircraft flight hours or 200 APU operating hours, whichever occurs later until the installation required by paragraph (h)(5) of this AD is done. After the effective date of this AD, use only the service information specified in Table 3 of this AD.

(4) Actions done before September 14, 2007, in accordance with the applicable Airbus service information in Table 4 of this AD are acceptable for compliance with the corresponding provisions of paragraph (g) of this AD.

Table 4—Acceptable Earlier Revisions of Service Information
Airbus all operators telex— | Revision— | Dated—
A330-24A3044 | Original | July 5, 2007.
A340-24A4057 | Original | July 5, 2007.
A340-24A4057 | 01 | July 20, 2007.
A340-24A5021 | Original | July 5, 2007.

(5) For Model A330 aircraft operating under MMEL Item 24-22-01, “AC Main Generation,” or MMEL Item 36-11-01, “Bleed Air Supply System Failure”: Unless the APU generator has been deferred in accordance with the MMEL by deactivation (quill shaft removed) or removal, the inspection required by paragraph (g)(2) or (g)(3), as applicable, of this AD must be performed prior to the first flight of the specified MMEL repair time interval. Accomplishing the actions in this paragraph terminates the actions required by paragraph (f)(2) of this AD.

Note 2: For A330 aircraft, MMEL Item 24-22-01 (AC Main Generation) and/or MMEL Item 36-11-01 (Bleed Air Supply System Failure) require that the APU be used during the entire flight.

NEW REQUIREMENTS OF THIS AD

Actions and Compliance

(h) Unless already done, do the following actions.

(1) As of the effective date of this AD, before further flight after an APU generator or an APU is installed on the airplane: Inspect the APU generator scavenge oil filter element for contamination (including metallic particles), the APU generator drain plug for contamination (including metallic particles), and the APU generator scavenge filter housing for contamination (including metallic particles), in accordance with paragraph 4.2 of the applicable service information specified in Table 3 of this AD. Do all applicable corrective actions before further flight in accordance with paragraph 4.2 of the applicable service information specified in Table 3 of this AD.

(2) Within 450 aircraft flight hours or 200 APU operating hours, whichever occurs later, after accomplishing the inspection required by paragraph (h)(1) of this AD, do the inspection as required by paragraph (g)(2) of this AD. Doing the installation required by paragraph (h)(5) of this AD terminates the requirements of this paragraph.

(3) For Model A330 airplanes operated within the provisions of MMEL Item 24-22-01, “AC Main Generation,” that are dispatched with the APU operating during the entire flight in accordance with the provisions of MMEL Item 24-22-01: Perform the inspection required by paragraph (g)(2) of this AD at the applicable time in paragraph (h)(3)(i) or (h)(3)(ii) of this AD, unless the APU generator is removed or deactivated (quill shaft removed as described in the MMEL item). Doing the installation required by paragraph (h)(5) of this AD terminates the requirements of this paragraph.

(i) Before the first flight of the MMEL rectification interval.

(ii) Before the first flight following MMEL rectification.

(4) Removing or deactivating the APU generator, or rendering the APU inoperative, in accordance with paragraph 4.3 of the applicable service information specified in Table 3 of this AD, defers the inspection required by paragraph (g)(2) of this AD. The deferred inspection must be performed before further flight after the system is reactivated. Doing the installation required by paragraph (h)(5) of this AD terminates the requirements of this paragraph.

(5) Within 6 months after the effective date of this AD, install a secondary housing line replaceable unit (LRU) over the end of the APU generator, in accordance with the Accomplishment Instructions of the applicable service information specified in Table 6 of this AD. Performing this modification terminates the repetitive inspections required by paragraphs (g)(2) and (g)(3) of this AD, and the inspections required by paragraphs (h)(2), (h)(3), and (h)(4) of this AD.

(6) Actions accomplished before the effective date of this AD in accordance with service information in Table 5 of this AD are acceptable for compliance with the corresponding actions specified in this AD.

Table 5—Service Information Acceptable for Previous Compliance
Airbus service bulletin— | Dated—
A330-20-3045 | June 13, 2008.
A340-24-4058 | June 13, 2008.
A340-24-5022 | June 23, 2008.

FAA AD Differences

Note 3: This AD differs from the MCAI and/or service information as follows: No differences.

Other FAA AD Provisions

(i) The following provisions also apply to this AD:

(1) Alternative Methods of Compliance (AMOCs): The Manager, International Branch, FAA, has the authority to approve AMOCs for this AD, if requested using the procedures found in 14 CFR 39.19. Send information to ATTN: Vladimir Ulyanov, Aerospace Engineer, International Branch, ANM-116, Transport Airplane Directorate, FAA, 1601 Lind Avenue SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(j) Refer to MCAI EASA Airworthiness Directive 2008-0173, dated September 15, 2008, and the service information identified in Table 6 of this AD for related information.

Table 6—Service Information Required by This AD
Airbus— | Revision— | Dated—
AOT A330-24A3042 | 02 | April 12, 2007.
AOT A330-24A3044 | 03 | May 26, 2008.
AOT A340-24A4056 | 02 | April 12, 2007.
AOT A340-24A4057 | 03 | December 20, 2007.
AOT A340-24A5020 | 02 | April 12, 2007.
AOT A340-24A5021 | 02 | December 20, 2007.
Mandatory Service Bulletin A330-24-3045 | 01 | October 1, 2008.
Mandatory Service Bulletin A340-24-4058 | 01 | October 1, 2008.
Mandatory Service Bulletin A340-24-5022 | 01 | November 27, 2008.

Material Incorporated by Reference

(k) You must use the service information contained in Table 7 of this AD, as applicable, to do the actions required by this AD, unless the AD specifies otherwise.

Table 7—All Material Incorporated by Reference
Airbus— | Revision— | Dated—
AOT A330-24A3042 | 02 | April 12, 2007.
AOT A330-24A3044 | 03 | May 26, 2008.
AOT A340-24A4056 | 02 | April 12, 2007.
AOT A340-24A4057 | 03 | December 20, 2007.
AOT A340-24-A5020 | 02 | April 12, 2007.
AOT A340-24A5021 | 02 | December 20, 2007.
Mandatory Service Bulletin A330-24-3045 | 01 | October 1, 2008.
Mandatory Service Bulletin A340-24-4058 | 01 | October 1, 2008.
Mandatory Service Bulletin A340-24-5022 | 01 | November 27, 2008.
(The AOT document number, revision level, and date are indicated on only page 1 of these documents.)

(1) The Director of the Federal Register approved the incorporation by reference of the service information contained in Table 8 of this AD under 5 U.S.C. 552(a) and 1 CFR part 51.

Table 8—New Material Incorporated by Reference
Airbus— | Revision— | Dated—
AOT A330-24A3044 | 03 | May 26, 2008.
AOT A340-24A4057 | 03 | December 20, 2007.
AOT A340-24A5021 | 02 | December 20, 2007.
Mandatory Service Bulletin A330-24-3045 | 01 | October 1, 2008.
Mandatory Service Bulletin A340-24-4058 | 01 | October 1, 2008.
Mandatory Service Bulletin A340-24-5022 | 01 | November 27, 2008.

(2) The Director of the Federal Register previously approved the incorporation by reference of the service information contained in Table 9 of this AD on June 26, 2007 (72 FR 31973, June 11, 2007).

Table 9—Material Previously Incorporated by Reference
Airbus all operators telex— | Revision level— | Dated—
A330-24A3042 | 02 | April 12, 2007.
A340-24A4056 | 02 | April 12, 2007.
A340-24A5020 | 02 | April 12, 2007.

(3) For service information identified in this AD, contact Airbus SAS—Airworthiness Office—EAL, 1 Rond Point Maurice Bellonte, 31707 Blagnac Cedex, France; telephone +33 5 61 93 36 96; fax +33 5 61 93 45 80, e-mail: airworthiness.A330-A340@airbus.com; Internet http://www.airbus.com.

(4) You may review copies of the service information at the FAA, Transport Airplane Directorate, 1601 Lind Avenue SW., Renton, Washington. For information on the availability of this material at the FAA, call 425-227-1221.

(5) You may also review copies of the service information that is incorporated by reference at the National Archives and Records Administration (NARA). For information on the availability of this material at NARA, call 202-741-6030, or go to: http://www.archives.gov/federal_register/code_of_federal_regulations/ibr_locations.html.

Issued in Renton, Washington, June 23, 2010.
Ali Bahrami,
Manager, Transport Airplane Directorate, Aircraft Certification Service.

[FR Doc. 2010-16181 Filed 7-12-10; 8:45 am]

BILLING CODE 4910-13-P